DEPARTMENT OF COMMERCE

International Trade Administration

[A-570-970]

Multilayered Wood Flooring From the People's Republic of China: Final Results of Expedited Second Sunset Review of the Antidumping Duty Order

AGENCY: Enforcement and Compliance, International Trade Administration, Department of Commerce.

SUMMARY: The U.S. Department of Commerce (Commerce) finds that revocation of the antidumping duty (AD) order on Multilayered Wood Flooring (MLWF) from the People's Republic of China (China) would be likely to lead to a continuation or recurrence of dumping, at the levels indicated in the “Final Results of Sunset Review” section of this notice.

DATES: Applicable April 4, 2023.

FOR FURTHER INFORMATION CONTACT: Max Goldman, AD/CVD Operations, Office VIII, Enforcement and Compliance, International Trade Administration, U.S. Department of Commerce, 1401 Constitution Avenue NW, Washington, DC 20230; telephone: (202) 482-0224.

SUPPLEMENTARY INFORMATION:

Background

On December 8, 2011, Commerce published the antidumping duty order on MLWF from China.¹ On December 1, 2022, Commerce published the initiation of the second sunset review of the Order on MLWF from China, pursuant to section 751(c) of the Tariff Act of 1930, as amended (the Act).² On December 13, 2022, Commerce received a timely and complete notice of intent to participate in this sunset review from the American Manufacturers of Multilayered Wood Flooring (AMMWF), within the deadline specified in 19 CFR 351.218(d)(1)(i).³ AMMWF claimed interested party status within the meaning of section 771(9)(F) of the Act as an association of producers of the domestic like product in the United States.⁴

¹ See Multilayered Wood Flooring from the People's Republic of China: Amended Final Determination of Sales at Less Than Fair Value and Antidumping Duty Order, 76 FR 76690 (December 8, 2011); see also Multilayered Wood Flooring from the People's Republic of China: Amended Antidumping and Countervailing Duty Orders, 77 FR 5484 (February 3, 2012), wherein the scope of the Order was modified (collectively, Order).

² See Initiation of Five-Year (“Sunset”) Reviews, 87 FR 73757 (December 1, 2022).

³ See Domestic Interested Party's Letter, “Notice of Intent to Participate in Sunset Review,” dated December 13, 2022.

⁴ Id.

On January 3, 2023, AMMWF filed a timely and adequate substantive response, within the deadline specified in 19 CFR 351.218(d)(3)(i).⁵ Commerce did not receive a substantive response from any respondent interested party. As a result, pursuant to section 751(c)(3)(B) of the Act and 19 CFR 351.218(e)(1)(ii)(C)(2), Commerce conducted an expedited (120-day) sunset review of the Order.

⁵ See Domestic Interested Party's Letter, “Substantive Response to Notice of Initiation of Sunset Review,” dated January 3, 2023.

Scope of the Order ⁶

⁶ See Order.

The product covered by the Order is MLWF from China. For a complete description of the scope of the Order, see the Issues and Decision Memorandum.⁷

⁷ See Memorandum, “Issue and Decision Memorandum for the Final Results of the Expedited Second Sunset Review of the Antidumping Order on Multilayered Wood Flooring from the People's Republic of China,” dated concurrently with, and hereby adopted by, this notice (Issues and Decision Memorandum).

Analysis of Comments Received

A complete discussion of all issues raised in this sunset review, including the likelihood of continuation or recurrence of dumping in the event of revocation of the Order and the magnitude of the margin likely to prevail if the Order was to be revoked, is provided in the Issues and Decision Memorandum. A list of the topics discussed in the Issues and Decision Memorandum is attached as an appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Final Results of Sunset Review

Pursuant to sections 751(c)(1),752(c)(1) and (3) of the Act, Commerce determines that revocation of the Order on MLWF from China would be likely to lead to continuation or recurrence of dumping, and that the magnitude of the dumping margin likely to prevail would be a weighted-average margin up to 25.62 percent.

Notification Regarding Administrative Protective Order

This notice serves as the only reminder to parties subject to administrative protective order (APO) of their responsibility concerning the return or destruction of proprietary information disclosed under APO in accordance with 19 CFR 351.305. Timely notification of the return or destruction of APO materials, or conversion to judicial protective orders, is hereby requested. Failure to comply with the regulations and terms of an APO is a violation which is subject to sanction.

Notification to Interested Parties

We are issuing and publishing these final results and notice in accordance with sections 751(c), 752(c), and 777(i)(1) of the Act, and 19 CFR 351.218 and 19 CFR 351.221(c)(5)(ii).

Dated: March 29, 2023.
Abdelali Elouaradia,
Deputy Assistant Secretary for Enforcement and Compliance.

Appendix

List of Topics Discussed in the Issues and Decision Memorandum

I. Summary

II. Background

III. Scope of the Order

IV. History of the Order

V. Legal Framework

VI. Discussion of the Issues

1. Likelihood of Continuation or Recurrence of Dumping

2. Magnitude of the Dumping Margin Likely to Prevail

VII. Final Results of Sunset Review

VIII. Recommendation

[FR Doc. 2023-06973 Filed 4-3-23; 8:45 am]

BILLING CODE 3510-DS-P